DEPARTMENT OF HEALTH AND HUMAN SERVICES

National Institutes of Health

National Cancer Institute; Amended Notice of Meeting

Notice is hereby given of a change in the meeting of the National Cancer Advisory Board and NCI Board of Scientific Advisors, December 5, 2022, 12:00 p.m. to December 7, 2022, 5:00 p.m., National Cancer Institute—Shady Grove, 9609 Medical Center Drive, Rockville, MD 20850 which was published in the Federal Register on November 22, 2022, FR Doc 2022-25392, 87 FR 71344. This notice is being amended to change the closed session time from 11:00 a.m.-1:05 p.m. to 12:00 p.m.-1:00 p.m. on December 5, 2022. The meeting is partially closed to the public.

Dated: November 28, 2022.
Melanie J. Pantoja,
Program Analyst, Office of Federal Advisory Committee Policy.

[FR Doc. 2022-26216 Filed 12-1-22; 8:45 am]

BILLING CODE 4140-01-P